DEPARTMENT OF AGRICULTURE

Animal and Plant Health Inspection Service

[Docket No. 99-093-1]

Asian Longhorned Beetle; Availability of an Environmental Assessment

AGENCY: Animal and Plant Health Inspection Service, USDA.

ACTION: Notice of availability and request for comments.

SUMMARY: We are advising the public that an environmental assessment has been prepared by the Animal and Plant Health Inspection Service relative to a proposed field test program for the control of the Asian longhorned beetle, Anoplophora glabripennis (Motschulsky). The environmental assessment documents our review and analysis of environmental impacts associated with the proposed field test program. We are making this environmental assessment available to the public for review and comment.

DATES: We will consider all comments that we receive by March 31, 2000.

ADDRESSES: Please send your comment and three copies to:Docket No. 99-093-1,Regulatory Analysis and Development,PPD, APHIS,Suite 3C03,4700 River Road, Unit 118,Riverdale, MD 20737-1238.

Please state that your comment refers to Docket No. 99-093-1.

You may read any comments that we receive on this environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS rules, are available on the Internet at http://www.aphis.usda.gov/ppd/rad/webrepor.html.

FOR FURTHER INFORMATION CONTACT: Mr. Ron Milberg, Operations Officer, PPQ, APHIS, 4700 River Road Unit 135, Riverdale, MD 20737-1236; (301) 734-5255.

SUPPLEMENTARY INFORMATION:

Background

The Asian longhorned beetle, Anoplophora glabripennis (Motschulsky), an insect native to China, Japan, Korea, and the Isle of Hainan, is a destructive pest of hardwood trees. It is known to attack healthy maple, horse chestnut, birch, Rose of Sharon, poplar, willow, elm, locust, mulberry, chinaberry, apple, cherry, pear, and citrus trees. It may also attack other species of hardwood trees. In addition, nursery stock, logs, green lumber, firewood, stumps, roots, branches, and debris of a half an inch or more in diameter are subject to infestation. The beetle bores into the heartwood of a host tree, eventually killing it. Immature beetles bore into tree trunks and branches, causing heavy sap flow from wounds and sawdust accumulation at tree bases. They feed on, and overwinter in, the interiors of trees. Adult beetles emerge in the spring and summer months from round holes approximately 3/8-inch diameter (about the size of a dime) that they bore through the trunks of trees. After emerging, adult beetles feed for 2 to 3 days and then mate. Adult females then lay eggs in oviposition sites that they make on the branches of trees. A new generation of Asian longhorned beetle is produced each year. If this pest moves into the hardwood forests of the United States, the nursery and forest products industries could experience severe economic losses.

The Asian longhorned beetle regulations (7 CFR 301.51-1 through 301.51.9) restrict the interstate movement of regulated articles from quarantined areas to prevent the artificial spread of Asian longhorned beetle to noninfested areas of the United States. Portions of New York City and Nassau and Suffolk Counties in the State of New York and portions of the city of Chicago, Du Page County, and the village of Summit in the State of Illinois are already designated as quarantined areas.

APHIS' current Asian longhorned beetle eradication activities are limited to the removal and destruction of trees that are determined to be infested with Asian longhorned beetle. Because the removal of host trees is time consuming and expensive, APHIS is investigating the use of prophylactic methods to prevent new infestations of healthy trees in the vicinity of infected areas.

APHIS has completed an environmental assessment that considers various methods of prophylactic protection for trees against the harmful effects of the Asian longhorned beetle. Based on our findings, we believe that the most effective prophylactic treatment available for trees appears to be the use of a soil-injected insecticide. Therefore, we are planning to conduct field tests on this method in the spring of 2000 to determine whether it can be a successful and efficient deterrent to the spread of the Asian longhorned beetle.

APHIS' review and analysis of the potential environmental impacts associated with these proposed field tests are documented in detail in an environmental assessment entitled “Asian Longhorned Beetle Field Trial” (October 1999). We are making this environmental assessment available to the public for review and comment. We will consider all comments that we receive by the date listed under the heading DATES at the beginning of this notice.

The environmental assessment may be viewed on the Internet at http://www.aphis.usda.gov/ppq/ead/alb/html. You may request paper copies of the environmental assessment by calling or writing to the person listed under FOR FURTHER INFORMATION CONTACT. Please refer to the title of the environmental assessment when requesting copies. The environmental assessment is also available for review in our reading room (information on the location and hours of the reading room is listed under the heading ADDRESSES at the beginning of this notice).

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 14th day of January 2000.
Craig A. Reed,
Administrator, Animal and Plant Health Inspection Service.

[FR Doc. 00-1493 Filed 1-27-00; 11:53 am]

BILLING CODE 3410-34-U